COMMITTEE FOR PURCHASE FROM PEOPLE WHO ARE BLIND OR SEVERELY DISABLED

Procurement List; Proposed Changes

AGENCY: Committee for Purchase From People Who Are Blind or Severely Disabled.

ACTION: Proposed changes to the Procurement List.

SUMMARY: The Committee is proposing to change requirements for products already existing on the Procurement List that will be furnished by nonprofit agencies employing persons who are blind or have other severe disabilities.

DATES: Comments must be received on or before: May 26, 2024.

ADDRESSES: Committee for Purchase From People Who Are Blind or Severely Disabled, 355 E Street SW, Suite 325, Washington, DC 20024.

FOR FURTHER INFORMATION CONTACT: Michael R. Jurkowski, Telephone: (703) 489-1322, or email CMTEFedReg@AbilityOne.gov.

SUPPLEMENTARY INFORMATION: This notice is published pursuant to 41 U.S.C. 8503 (a)(2) and 41 CFR 51-2.3. Its purpose is to provide interested persons an opportunity to submit comments on the proposed actions.

Changes

If the Committee approves the proposed changes, the entities of the Federal Government identified in this notice will be required to procure the product(s) listed below from nonprofit agencies employing persons who are blind or have other severe disabilities.

Product(s)

NSN(s)—Product Name(s):

8415-01-670-5110—Trouser, Improved Hot Weather Combat Uniform (IHWCU), Permethrin, Unisex, Army, OCP 2015, XS-XS

8415-01-670-6243—Trouser, Improved Hot Weather Combat Uniform (IHWCU), Permethrin, Unisex, Army, OCP 2015, XL-XXL

8415-01-670-6251—Trouser, Improved Hot Weather Combat Uniform (IHWCU), Permethrin, Unisex, Army, OCP 2015, XXL-XS

8415-01-670-6337—Trouser, Improved Hot Weather Combat Uniform (IHWCU), Permethrin, Unisex, Army, OCP 2015, XXL-S

8415-01-670-6339—Trouser, Improved Hot Weather Combat Uniform (IHWCU), Permethrin, Unisex, Army, OCP 2015, XXL-R

8415-01-670-6344—Trouser, Improved Hot Weather Combat Uniform (IHWCU), Permethrin, Unisex, Army, OCP 2015, XXL-L

8415-01-670-6346—Trouser, Improved Hot Weather Combat Uniform (IHWCU), Permethrin, Unisex, Army, OCP 2015, XXL-XL

8415-01-670-6349—Trouser, Improved Hot Weather Combat Uniform (IHWCU), Permethrin, Unisex, Army, OCP 2015, XXL-XXL

8415-01-670-6171—Trouser, Improved Hot Weather Combat Uniform (IHWCU), Permethrin, Unisex, Army, OCP 2015, L-XL

8415-01-670-5165—Trouser, Improved Hot Weather Combat Uniform (IHWCU), Permethrin, Unisex, Army, OCP 2015, M-XS

8415-01-670-5119—Trouser, Improved Hot Weather Combat Uniform (IHWCU), Permethrin, Unisex, Army, OCP 2015, XS-S

8415-01-670-5127—Trouser, Improved Hot Weather Combat Uniform (IHWCU), Permethrin, Unisex, Army, OCP 2015, XS-L

8415-01-670-5128—Trouser, Improved Hot Weather Combat Uniform (IHWCU), Permethrin, Unisex, Army, OCP 2015, XS-XL

8415-01-670-5133—Trouser, Improved Hot Weather Combat Uniform (IHWCU), Permethrin, Unisex, Army, OCP 2015, XS-XXL

8415-01-670-5135—Trouser, Improved Hot Weather Combat Uniform (IHWCU), Permethrin, Unisex, Army, OCP 2015, S-XS

8415-01-670-5140—Trouser, Improved Hot Weather Combat Uniform (IHWCU), Permethrin, Unisex, Army, OCP 2015, S-S

8415-01-670-5146—Trouser, Improved Hot Weather Combat Uniform (IHWCU), Permethrin, Unisex, Army, OCP 2015, S-R

8415-01-670-5150—Trouser, Improved Hot Weather Combat Uniform (IHWCU), Permethrin, Unisex, Army, OCP 2015, S-L

8415-01-670-5154—Trouser, Improved Hot Weather Combat Uniform (IHWCU), Permethrin, Unisex, Army, OCP 2015, S-XL

8415-01-670-5157—Trouser, Improved Hot Weather Combat Uniform (IHWCU), Permethrin, Unisex, Army, OCP 2015, S-XXL

8415-01-670-5507—Trouser, Improved Hot Weather Combat Uniform (IHWCU), Permethrin, Unisex, Army, OCP 2015, M-S

8415-01-670-5511—Trouser, Improved Hot Weather Combat Uniform (IHWCU), Permethrin, Unisex, Army, OCP 2015, M-R

8415-01-670-5515—Trouser, Improved Hot Weather Combat Uniform (IHWCU), Permethrin, Unisex, Army, OCP 2015, M-L

8415-01-670-5518—Trouser, Improved Hot Weather Combat Uniform (IHWCU), Permethrin, Unisex, Army, OCP 2015, M-XL

8415-01-670-5520—Trouser, Improved Hot Weather Combat Uniform (IHWCU), Permethrin, Unisex, Army, OCP 2015, M-XXL

8415-01-670-5523—Trouser, Improved Hot Weather Combat Uniform (IHWCU), Permethrin, Unisex, Army, OCP 2015, L-XS

8415-01-670-5527—Trouser, Improved Hot Weather Combat Uniform (IHWCU), Permethrin, Unisex, Army, OCP 2015, L-S

8415-01-670-6164—Trouser, Improved Hot Weather Combat Uniform (IHWCU), Permethrin, Unisex, Army, OCP 2015, L-R

8415-01-670-6169—Trouser, Improved Hot Weather Combat Uniform (IHWCU), Permethrin, Unisex, Army, OCP 2015, L-L

8415-01-670-6179—Trouser, Improved Hot Weather Combat Uniform (IHWCU), Permethrin, Unisex, Army, OCP 2015, XL-XS

8415-01-670-6181—Trouser, Improved Hot Weather Combat Uniform (IHWCU), Permethrin, Unisex, Army, OCP 2015, XL-S

8415-01-670-6192—Trouser, Improved Hot Weather Combat Uniform (IHWCU), Permethrin, Unisex, Army, OCP 2015, XL-R

8415-01-670-6195—Trouser, Improved Hot Weather Combat Uniform (IHWCU), Permethrin, Unisex, Army, OCP 2015, XL-L

8415-01-670-6198—Trouser, Improved Hot Weather Combat Uniform (IHWCU), Permethrin, Unisex, Army, OCP 2015, XL-XL

8415-01-670-5124—Trouser, Improved Hot Weather Combat Uniform (IHWCU), Permethrin, Unisex, Army, OCP 2015, XS-R

8415-01-670-6174—Trouser, Improved Hot Weather Combat Uniform (IHWCU), Permethrin, Unisex, Army, OCP 2015, L-XXL

8415-01-670-5110—Trouser, Improved Hot Weather Combat Uniform (IHWCU), Permethrin, Unisex, Army, OCP 2015, XS-XS

8415-01-687-1339—Trouser, Improved Hot Weather Combat Uniform (IHWCU), Permethrin, Women's, Army, 31-Short

8415-01-687-1353—Trouser, Improved Hot Weather Combat Uniform (IHWCU), Permethrin, Women's, Army, 31-Regular

8415-01-687-1971—Trouser, Improved Hot Weather Combat Uniform (IHWCU), Permethrin, Women's, Army, 31-X Short

8415-01-687-2060—Trouser, Improved Hot Weather Combat Uniform (IHWCU), Permethrin, Women's, Army, 35-Regular

8415-01-687-1345—Trouser, Improved Hot Weather Combat Uniform (IHWCU), Permethrin, Women's, Army, 35-Long

8415-01-687-2126—Trouser, Improved Hot Weather Combat Uniform (IHWCU), Permethrin, Women's, Army, 31-X Long

8415-01-687-3100—Trouser, Improved Hot Weather Combat Uniform (IHWCU), Permethrin, Women's, Army, 25-Regular

8415-01-687-4018—Trouser, Improved Hot Weather Combat Uniform (IHWCU), Permethrin, Women's, Army, 35-X Long

8415-01-687-6147—Trouser, Improved Hot Weather Combat Uniform (IHWCU), Permethrin, Women's, Army, 35-Short

8415-01-687-6180—Trouser, Improved Hot Weather Combat Uniform (IHWCU), Permethrin, Women's, Army, 28-Long

8415-01-687-6201—Trouser, Improved Hot Weather Combat Uniform (IHWCU), Permethrin, Women's, Army, 28-Short

8415-01-687-6651—Trouser, Improved Hot Weather Combat Uniform (IHWCU), Permethrin, Women's, Army, 25-X Short

8415-01-687-6659—Trouser, Improved Hot Weather Combat Uniform (IHWCU), Permethrin, Women's, Army, 28-X Short

8415-01-687-6669—Trouser, Improved Hot Weather Combat Uniform (IHWCU), Permethrin, Women's, Army, 25-Short

8415-01-687-6673—Trouser, Improved Hot Weather Combat Uniform (IHWCU), Permethrin, Women's, Army, 31-Long

Authorized Source of Supply: Goodwill Industries of South Florida, Inc., Miami, FL

Authorized Source of Supply: ReadyOne Industries, Inc., El Paso, TX

Contracting Activity: DEFENSE LOGISTICS AGENCY, DLA TROOP SUPPORT

The Unisex Improved Hot Weather Combat Uniform (IHWCU) Permethrin Trousers were administratively added to the Procurement List 11/20/2017 in accordance with 41 CFR 51-6.13(b), as an additional size, color or other variation) of an existing PL product to meet 50% of the requirement for the Army Contracting Command—Aberdeen Proving Ground, Natick Contracting Division, with DLA Troop Support added later. However, when possible and to ensure clarity on existing PL requirements for military garments, or other applicable products, the Committee is departing from stating the mandatory purchase requirement as a percentage of a contracting activity's overall requirement and is instead stating the mandatory purchase requirement as a specified annual quantity of a garment or product. For the Trouser, IHWCU, Permethrin, Unisex, the contracting activity and the authorized sources of supply, assisted by the central nonprofit agency, have agreed that the mandatory purchase requirement is 94,896 units annually for the Unisex trousers and 151,104 units annually for the Women's trousers. The Committee intends to amend the Procurement List and reflect the agreed annual quantity. Additionally, for administrative purposes, the Committee is assigning a new PL number to the IHWCU Trouser, Unisex, which will sever the Unisex IHWCU garments as a legacy from garments no longer being produced and increase the Committee's overall efficiency when processing future transactions.

Michael R. Jurkowski,
Director, Business Operations.

[FR Doc. 2024-09003 Filed 4-25-24; 8:45 am]

BILLING CODE 6353-01-P